DEPARTMENT OF HEALTH AND HUMAN SERVICES

Substance Abuse and Mental Health Services Administration

Fiscal Year (FY) 2013 Funding Opportunity

AGENCY: Substance Abuse and Mental Health Services Administration, HHS.

ACTION: Notice of intent to award a single source grant to the Community Anti-Drug Coalitions of America (CADCA).

SUMMARY: This notice is to inform the public that the Substance Abuse and Mental Health Services Administration (SAMHSA) intends to award $1,895,388 (total costs) for up to five years to CADCA for the National Community Anti-Drug Coalition Institute (NCI). This is not a formal request for applications. Assistance will be provided only to CADCA based on the receipt of a satisfactory application that is approved by an independent review group.

Funding Opportunity Title: SP-13-009.

Catalog of Federal Domestic Assistance (CFDA) Number: 93.276.

Authority: Public Law 107-82, section (4)(c), as amended by Public Law 109-469 (21 U.S.C. 1521 note) per the direction of the Office of National Drug Control Policy (ONDCP).

Justification: Eligibility for this NCI award is limited to CADCA. The purpose of the NCI is to provide education, training, and technical assistance for coalition leaders and community teams, with an emphasis on the development of coalitions serving economically disadvantaged areas. The NCI will disseminate evaluation tools, mechanisms, and measures to better assess and document coalition performance measures and outcomes and bridge the gap between research and practice by translating knowledge from research into practical information.

Contact: Cathy Friedman, Substance Abuse and Mental Health Services Administration, 1 Choke Cherry Road, Room 8-1097, Rockville, MD 20857; telephone: (240) 276-2316; email: cathy.friedman@samhsa.hhs.gov.

Cathy J. Friedman,
SAMHSA Public Health Analyst.

[FR Doc. 2013-19533 Filed 8-12-13; 8:45 am]

BILLING CODE 4162-20-P